DEPARTMENT OF HEALTH AND HUMAN SERVICES

Food and Drug Administration

[Docket No. 2005N-0218]

Vision 2006—A Conversation With the American Public; Notice of Public Meetings on Specific Food and Drug Administration Issues; Notice of Postponement of Meeting

AGENCY: Food and Drug Administration, HHS.

ACTION: Notice.

SUMMARY: The Food and Drug Administration (FDA) previously announced three public meetings entitled “Vision 2006—A Conversation With the American Public.” These meetings are a forum where consumers can interact directly with FDA's leadership to discuss issues of public interest. Due to our need to focus on Hurricane Katrina relief efforts, we are postponing the meeting that was scheduled on September 13, 2005 in Miami, FL. We will reschedule the Miami meeting at a later date.

DATES: See table 1 of the SUPPLEMENTARY INFORMATION section of this document for revised meeting dates and times.

ADDRESSES: See table 1 of the SUPPLEMENTARY INFORMATION section of this document for meeting locations.

FOR FURTHER INFORMATION CONTACT:

For information regarding this document: Philip L. Chao, Food and Drug Administration (HF-23), 5600 Fishers Lane, Rockville, MD 20857, 301-827-0587, FAX: 301 827-4774, e-mail: philip.chao@fda.hhs.gov.

For information regarding registration: Isabelle Howes, Graduate School, U.S. Department of Agriculture, 490 L'Enfant Plaza, Promenade Level, suite 710, Washington, DC 20024, 202-314-4713, FAX: 202-479-6801, e-mail: Isabelle_Howes@grad.usda.gov.

SUPPLEMENTARY INFORMATION: In the Federal Register of August 16, 2005 (70 FR 48160), we announced a series of public meetings entitled “Vision 2006—Conversation with the American Public.” The meetings would be held in three cities, Miami, FL, Boston, MA, and Phoenix, AZ, and they would be an open forum where consumers could interact with FDA's leadership. The meetings would also be an opportunity for FDA to update the public on current agency programs, engage the public in discussions, and obtain consumer input on specific issues.

On August 29, 2005, Hurricane Katrina hit several states bordering the Gulf of Mexico, causing massive flooding and devastation. The Secretary of Health and Human Services, Michael O. Levitt, subsequently declared a public health emergency to exist in the States of Florida, Alabama, Louisiana, Mississippi, and Texas, and FDA has been working on relief efforts. Given our need to focus our attention on those relief efforts, we are postponing the meeting that was originally scheduled for Miami, FL, on September 13, 2005. We will reschedule that meeting at a later date, and we are contacting persons who have already registered for the Miami meeting to inform them that the meeting has been postponed.

The meeting dates for the Boston, MA, and Phoenix, AZ, locations remain the same.

The revised meeting dates, times, and locations are as follows:

Table 1.—Meeting Dates, Times, and Locations
Location | Meeting Site Address | Meeting Date and Time
Boston, MA | Boston Marriott Cambridge, 2 Cambridge Center (Broadway and 3d St.), Cambridge, MA 02142 | November 2, 2005, 10 a.m. to 4 p.m.
Miami, FL | Site to be determined at a later date | POSTPONED—We will reschedule this meeting at a later date
Phoenix, AZ | Phoenix Airport Marriott, 1101 North 44th St., Phoenix, AZ 85008 | November 30, 2005, 10 a.m. to 4 p.m.

Dated: September 7, 2005.
Jeffrey Shuren,
Assistant Commissioner for Policy.

[FR Doc. 05-18069 Filed 9-8-05; 10:59 am]

BILLING CODE 4160-01-S